DEPARTMENT OF THE INTERIOR

Fish and Wildlife Service

[FWS-R8-R-2018-N008; FF08RSDC00-189-F1611MD-FXRS12610800000]

Otay River Estuary Restoration Project, South San Diego Bay Unit of the San Diego Bay National Wildlife Refuge, California; Final Environmental Impact Statement

AGENCY: Fish and Wildlife Service, Interior.

ACTION: Notice of availability; final environmental impact statement.

SUMMARY: We, the U.S. Fish and Wildlife Service, announce the availability of a final environmental impact statement (EIS) for a proposed project to restore coastal wetlands at the south end of San Diego Bay. The Otay River Estuary Restoration Project is located within the South San Diego Bay Unit of the San Diego Bay National Wildlife Refuge (NWR) in San Diego County, California. This notice advises the public that the final EIS is now available to the public. The final EIS describes the alternatives identified to restore two portions of the South San Diego Bay Unit of the San Diego Bay NWR to coastal wetlands to benefit native fish, wildlife, and plant species.

ADDRESSES: Document Availability: You may obtain copies of the EIS and related documents in the following places:

• Internet: https://www.fws.gov/refuge/San_Diego_Bay/what_we_do/Resource_Management/Otay_Restoration.html.

• In Person:

○ San Diego National Wildlife Refuge Complex Headquarters, 1080 Gunpowder Point Drive, Chula Vista, CA 91910; telephone: 619-476-9150, extension 103.

○ Chula Vista Public Library, Civic Center Branch, 365 F Street, Chula Vista, CA 91910; telephone: 619-691-5069.

○ San Diego County Library, Imperial Beach Branch Library, 810 Imperial Beach Blvd. Imperial Beach, CA 91932; telephone: 619-424-6981.

○ Chula Vista Public Library, South Chula Vista Branch, 389 Orange Avenue, Chula Vista, CA 91911; telephone: 619-585-5755.

FOR FURTHER INFORMATION CONTACT: Brian Collins, Refuge Manager, San Diego Bay National Wildlife Refuge at 619-575-2704, extension 302 (telephone) or brian_collins@fws.gov (email); or Andy Yuen, Project Leader, 619-476-9150, extension 100 (telephone), or andy_yuen@fws.gov (email).

SUPPLEMENTARY INFORMATION:

National Environmental Policy Act Compliance

We are conducting environmental review for the proposed Otay River Estuary Restoration Project in accordance with the requirements of the National Environmental Policy Act, as amended (NEPA; 42 U.S.C. 4321 et seq.), its implementing regulations in 40 CFR 1500-1508), other applicable regulations, and our procedures for compliance with those regulations. The U.S. Army Corps of Engineers is participating as a cooperating agency in preparation of the EIS. On November 14, 2011, we published in the Federal Register a notice of intent to prepare an environmental impact statement (EIS) for the Otay project (76 FR 70480). Based on information developed after the scoping period, the proposed area of the project was expanded, so on January 8, 2013, we published a notice to reinitiate the scoping process (78 FR 1246). We announced the availability of the draft EIS for public comment on October 21, 2016 (81 FR 72817), and reopened the comment period on December 27, 2016 (81 FR 95176). In accordance with 40 CFR 1506.6, we now announce the availability of the final EIS.

In addition to our publication of this notice, the U.S. Environmental Protection Agency (EPA) is publishing a notice announcing the final EIS, as required under section 309 of the Clean Air Act (42 U.S.C. 7401 et seq.). The publication date of EPA's notice of availability in the Federal Register is the start of the 30-day wait period required for the final EIS. (See EPA's Role in the EIS Process, below, for further information.)

We will make a decision on the alternatives presented in the EIS no sooner than 30 days after the publication of the final EIS. We anticipate issuing a Record of Decision (ROD) in 2018.

Background

In 2006, we completed a comprehensive conservation plan (CCP) and EIS/ROD to guide the management of the San Diego Bay NWR over a 15-year period (71 FR 64552, November 2, 2006). The wildlife and habitat management goal of the selected management alternative in the CCP for the South San Diego Bay Unit is to “Protect, manage, enhance, and restore . . . coastal wetlands . . . to benefit the native fish, wildlife, and plant species supported within the South San Diego Bay Unit.” One of the strategies identified to meet this goal is to restore native habitats in the Otay River floodplain and the salt ponds.

On November 15, 2007, the California Coastal Commission (Commission) approved a coastal development permit (CDP No. E-06-013) for a proposal by Poseidon Resources (Channelside) LP (Poseidon) to construct and operate a desalination facility in Carlsbad, California. As part of that approval, the Commission required Poseidon, through special condition 8, to submit for additional Commission review and approval a marine life mitigation plan (MLMP) to address the impacts to be caused by the facility's use of estuarine water and its entrainment of marine organisms. The MLMP was conditionally approved by the Commission on August 6, 2008 (CCC 2008). With the incorporation of the Commission's revisions, the MLMP was finalized on November 21, 2008. The MLMP requires that Poseidon submit a proposed mitigation site and preliminary restoration plan that achieves the following mitigation requirements:

• Create or substantially restore tidal wetland habitat, preferably in the San Diego Region;

• Restore at least 66.4 acres of coastal wetland habitat as mitigation at a maximum of two sites;

• The chosen site must be available and protected against future degradation; and

• Fish productivity must be at least 1,717.5 kg/year.

Project

On September 29, 2010, the San Diego NWR Complex and Poseidon entered into a memorandum of understanding to establish a partnership to facilitate the restoration of property within the San Diego Bay NWR, consistent with the CCP and the Commission's permit requirements for Poseidon. The proposed restoration project represents step-down restoration planning for the western portion of the Otay River floodplain and one of the salt ponds within the Refuge's solar salt pond complex. Funding for the proposed restoration is being provided by the Poseidon Resources Carlsbad Desalination Project to fulfill part of the mitigation requirements imposed by the Commission and the Regional Water Quality Control Board for the construction of a desalination plant in Carlsbad.

The proposed action site is located at the south end of San Diego Bay, San Diego County, California, within the South San Diego Bay Unit of the San Diego Bay NWR. Restoration activities will occur at two separate locations within the Refuge: The Otay River Floodplain Site and the Pond 15 Site. Specifically, the approximately 34-acre Otay River Floodplain Site is located west of Interstate 5 (I-5) between Main Street to the north and Palm Avenue to the south in San Diego. The Pond 15 Site consists of an approximately 91-acre active solar salt pond located in the northeast portion of the Refuge, to the northwest of the intersection of Bay Boulevard and Palomar Street in Chula Vista.

Alternatives

The site-specific EIS for the Otay project tiers from the 2006 programmatic EIS and ROD prepared for the Refuge CCP. We analyzed three alternatives in this final EIS:

Alternative A: No Action Alternative

Under the No Action Alternative, the disturbed areas within the Otay River Floodplain Site would not be restored or enhanced to coastal wetlands to benefit native species, and the Pond 15 Site would not be restored to tidally influenced subtidal and intertidal habitat. Under this alternative, Pond 15 would remain part of an existing commercial solar salt operation, and periodic maintenance to control non-native plants would continue to occur on the Otay River Floodplain Site in conjunction with ongoing management of the Refuge.

Alternative B: Intertidal Alternative (Proposed Action)

The Intertidal Alternative, Alternative B, is the proposed action. The proposed action would involve lowering the elevation and contouring the Otay River Floodplain Site to create approximately 29.8 acres of tidally influenced habitat, consisting of approximately 5.1 acres of intertidal mudflat and 24.7 acres of intertidal salt marsh habitat through altering elevations on the site. In addition, the restored area would include approximately 3.7 acres of upland habitat. The proposed action would also involve raising the elevation and contouring the Pond 15 Site to create approximately 10.4 acres of subtidal habitat, 18.4 acres of intertidal mudflat, 57.3 acres of intertidal salt marsh habitat, about 1 acre of high-tide refugia, and 3.9 acres of upland habitat. Both sites would be planted with a mix of native wetland vegetation that would mature into low-marsh, mid-marsh, and high-marsh vegetative communities. The intertidal areas and the unvegetated mudflat would provide foraging habitat for adult and juvenile fish, which then form the foraging base of the food chain that would benefit larger fish, birds, and other species on and off the site.

Implementation of the proposed action would involve the excavation of approximately 320,000 cubic yards of material from the Otay River Site and the transport of 260,000 cubic yards of this material to the Pond 15 Site for use in creating tidal elevations that would support the desired intertidal habitats and improving levees to separate Pond 15 from the remaining active solar salt operation.

The combination of the wetlands created at the Otay River Floodplain Site and Pond 15 Site under the proposed action would provide sufficient mitigation credit to meet the MLMP requirements.

Alternative C: Subtidal Alternative

Alternative C, the Subtidal Alternative, would involve lowering the Otay River Floodplain Site to an elevation lower than that proposed under Alternative B (proposed action) to create a subtidal channel within the Otay River Floodplain Site. Under the Subtidal Alternative, the subtidal zone would be surrounded by mudflats and increasing elevation of salt marsh. Specifically, the Subtidal Alternative would involve lowering the elevation and contouring the Otay River Floodplain Site to create approximately 4.5 acres of subtidal habitat, approximately 6.5 acres of intertidal mudflat, 18.7 acres of intertidal salt marsh habitat, and approximately 3.7 acres of upland habitat. The Subtidal Alternative would also involve raising the elevation and contouring the Pond 15 Site to create tidally influenced habitat that would be similar to that proposed under Alternative B, with approximately 9.8 acres of subtidal habitat, 16.3 acres of intertidal mudflat, 58.7 acres of intertidal salt marsh, approximately 2.2 acres of high-tide refugia, and 4.0 acres of upland habitat. Both sites would be planted with a mix of native wetland vegetation that would mature into low-marsh, mid-marsh, and high-marsh vegetative communities. The subtidal areas would provide fish spawning and foraging habitat, and the unvegetated mudflat would provide foraging habitat for adult and juvenile fish during high tides. Combined, the subtidal and mudflat areas would provide habitat for the basis of the food chain that would benefit larger fish, birds, and other species on and off the site.

Implementation of the Subtidal Alternative would involve the excavation of approximately 370,000 cubic yards of material from the Otay River Site and the transport of 312,000 cubic yards of this material to the Pond 15 Site for use in creating tidal elevations that would support the desired intertidal habitats and improving levees to separate Pond 15 from the remaining active solar salt operation.

The combination of the wetlands created at the Otay River Floodplain Site and Pond 15 Site under the Subtidal Alternative would also provide sufficient mitigation credit to meet the MLMP requirements.

EPA's Role in the EIS Process

The EPA is charged, under section 309 of the Clean Air Act, to review all Federal agencies' EISs and to comment on the adequacy and the acceptability of the environmental impacts of proposed actions in the EISs.

EPA also serves as the repository for EISs prepared by Federal agencies and provides notice of their availability in the Federal Register. The Environmental Impact Statement (EIS) Database provides information about EISs prepared by Federal agencies, as well as EPA's comments concerning the EISs. All EISs are filed with EPA, which publishes a notice of availability on Fridays in the Federal Register.

The notice of availability is the start of the 30-day “wait period” for final EISs, during which agencies are generally required to wait 30 days before making a decision on a proposed action. For more information, see https://www.epa.gov/nepa. You may search for EPA comments on EISs, along with EISs themselves, at https://cdxnodengn.epa.gov/cdx-enepa-public/action/eis/search.

Paul Souza,
Regional Director, Pacific Southwest Region.

[FR Doc. 2018-10630 Filed 5-17-18; 8:45 am]

BILLING CODE 4333-15-P